DEPARTMENT OF COMMERCE

Office of the Secretary

Estimates of the Voting Age Population for 2020

AGENCY: Office of the Secretary, Commerce.

ACTION: General notice announcing population estimates.

SUMMARY: This notice announces the voting age population estimates as of July 1, 2020, for each state and the District of Columbia. We are providing this notice in accordance with the 1976 amendment to the Federal Election Campaign Act. It is important to note that these estimates are based on the 2010 Census. Therefore, there may be differences between these estimates and results to be released from the 2020 Census.

FOR FURTHER INFORMATION CONTACT: Karen Battle, Chief, Population Division, U.S. Census Bureau, Room HQ-6H174, 4600 Silver Hill Road, Washington, DC 20233. Phone: 301-763-2071. Email: Karen.Battle@census.gov.

SUPPLEMENTARY INFORMATION: Under the requirements of the 1976 amendment to the Federal Election Campaign Act, Title 52, United States Code, Section 30116(e), I hereby give notice that the estimates of the voting age population for July 1, 2020 for each state and the District of Columbia are as shown in the following table.

Estimates of the Population of Voting Age for Each State and the District of Columbia: July 1, 2020
Area | Population 18 and over
United States | 256,662,010
Alabama | 3,834,249
Alaska | 552,427
Arizona | 5,774,978
Arkansas | 2,330,808
California | 30,576,844
Colorado | 4,557,684
Connecticut | 2,838,054
Delaware | 782,153
District of Columbia | 583,228
Florida | 17,482,580
Georgia | 8,210,067
Hawaii | 1,111,188
Idaho | 1,375,870
Illinois | 9,809,562
Indiana | 5,188,514
Iowa | 2,438,002
Kansas | 2,217,059
Kentucky | 3,475,334
Louisiana | 3,564,038
Maine | 1,101,973
Maryland | 4,721,883
Massachusetts | 5,552,051
Michigan | 7,839,742
Minnesota | 4,356,123
Mississippi | 2,273,653
Missouri | 4,780,119
Montana | 850,894
Nebraska | 1,462,537
Nevada | 2,440,679
New Hampshire | 1,113,141
New Jersey | 6,947,836
New Mexico | 1,633,828
New York | 15,348,422
North Carolina | 8,294,423
North Dakota | 583,680
Ohio | 9,124,576
Oklahoma | 3,027,263
Oregon | 3,380,729
Pennsylvania | 10,162,497
Rhode Island | 855,276
South Carolina | 4,100,115
South Dakota | 674,238
Tennessee | 5,373,433
Texas | 21,925,627
Utah | 2,320,603
Vermont | 510,181
Virginia | 6,724,143
Washington | 6,027,818
West Virginia | 1,428,520
Wisconsin | 4,574,131
Wyoming | 449,237
Source: U.S. Census Bureau, Population Division, Vintage 2020 Population Estimates (based on 2010 Census results).

Gina M. Raimondo, Secretary, U.S. Department of Commerce, has certified these estimates for the Federal Election Commission and approved the publication of this Notice in the Federal Register.

Dated: April 28, 2021.
Sheleen Dumas,
Department PRA Clearance Officer, Office of the Chief Information Officer, Commerce Department.

[FR Doc. 2021-09422 Filed 5-5-21; 8:45 am]

BILLING CODE 3510-07-P